ENVIRONMENTAL PROTECTION AGENCY

[FRL-7402-9]

Notice of Request for Initial Proposals (IPs) for Projects To Be Funded From the Water Quality Cooperative Agreement Allocation (CFDA 66.463—Water Quality Cooperative Agreements)

AGENCY: Environmental Protection Agency (EPA).

ACTION: Notice.

SUMMARY: EPA is soliciting Initial Proposals (IPs) from States, Tribes, local governments, universities, non-profits, and other eligible entities interested in applying for Federal assistance for Water Quality Cooperative Agreements (CFDA 66.463) under the Clean Water Act (CWA) section 104(b)(3). EPA Headquarters intends to award an estimated $3.1 million to eligible applicants through assistance agreements ranging in size from $10,000 up to $500,000 for Water Quality Cooperative Agreements, which are for unique and innovative projects that address the requirements of the National Pollutant Discharge Elimination Systems (NPDES) program with special emphasis on wet weather activities, i.e., storm water, combined sewer overflows, sanitary sewer overflows, and concentrated animal feeding operations as well as projects that enhance the ability of the regulated community to deal with non-traditional pollution problems in priority watersheds. From the IPs received, EPA estimates that 30 to 35 projects may be selected to submit full applications.

The Agency intends to make available at least $200,000 per year of the annual appropriation for Water Quality Cooperative Agreements, from FY 2001 through FY 2005, for projects which address cooling water intake issues to include technical and environmental studies. For FY 2003 it is expected that $250,000 will be available for projects addressing cooling water intake issues.

The Agency reserves the right to reject all IPs and make no awards.

DATES: EPA will consider IPs received on or before 5 p.m. Eastern Time, December 30, 2002. IPs received after the due date, may be reviewed at EPA's discretion.

ADDRESSES: It is preferred that IPs be electronically mailed (E-mailed) to WQCA2003@EPA.GOV. If mailed through the postal service or other means, three copies should be sent to: Barry Benroth, 4204M, WQCA2003, U.S. Environmental Protection Agency, 1200 Pennsylvania Avenue, NW., Washington, DC 20460.

The following address must be used for delivery of the copies by an overnight delivery or courier service: Barry Benroth, 4204M, WQCA2003, Phone 202-564-0672, U.S. Environmental Protection Agency, Room 7324 J, EPA East, 1201 Constitution Avenue, NW., Washington, DC 20004.

FOR FURTHER INFORMATION CONTACT: Barry Benroth by telephone at 202-564-0672 or by E-mail at benroth.barry@epa.gov.

SUPPLEMENTARY INFORMATION:

Purpose of This Request Is for Initial Proposals

The Office of Wastewater Management, Office of Water at EPA Headquarters is requesting IPs from States, Tribes, local governments, non-profit organizations and other eligible entities under the Clean Water Act section 104(b)(3) for unique and innovative projects that address the requirements of the National Pollutant Discharge Elimination Systems (NPDES) program with special emphasis on wet weather activities, i.e., storm water, combined sewer overflows, sanitary sewer overflows, and concentrated animal feeding operations as well as projects that enhance the ability of the regulated community to deal with non-traditional pollution problems in priority watersheds.

An organization whose IP is selected for possible Federal assistance must complete and EPA Application for Assistance, including the Federal SF-424 form (Application for Federal Assistance, see 40 CFR 30.12 and 31.10).

Organizations who have an existing agreement under this program are eligible to compete with proposals for new awards.

The Office of Wastewater Management, Office of Water, EPA Headquarters Has Identified the Following High Priority Areas for Consideration

WQCAs awarded under section 104(b)(3) may only be used to conduct and promote the coordination and acceleration of activities such as research, investigations, experiments, training, education, demonstrations, surveys, and studies relating to the causes, effect, extent, prevention, reduction, and elimination of water pollution. These activities, while not defined in the statute, advance the state of knowledge, gather information, or transfer information. For instance, “demonstrations” are generally projects that demonstrate new or experimental technologies, methods, or approaches and the results of the project will be disseminated so that others can benefit from the knowledge gained. A project that is accomplished through the performance of routine, traditional, or established practices, or a project that is simply intended to carry out a task rather than transfer information or advance the state of knowledge, however worthwhile the project may be, is not a demonstration. Research projects may include the application of established practices when they contribute to learning about an environmental concept or problem.

The Office of Wastewater Management at EPA Headquarters has identified several subject areas for priority consideration. EPA will award WQCAs for research, investigations, experiments, training, demonstrations, surveys and studies related to the causes, effects, extent, prevention, reduction, and elimination of water pollution in the following subject areas:

Impacts of Wet Weather Flows

Trends in load reduction due to implementation of storm water

Best Management Practices (BMPs) including means of measuring effectiveness of BMPs

Storm water monitoring techniques

Efficient and effective reduction of Sanitary Sewer Overflows (SSO)

Impacts of sewage overflows

Impacts of peak wet weather flows on Publicly Owned Treatment Works (POTW)

Environmental effectiveness of sewer separation

Compliance with Storm Water Phase II

National Pollutant Discharge Elimination System (NPDES) Program Strategies To Implement Watershed-Based Efforts

Watershed Integration of Water Programs under CWA & Safe Drinking Water Act (SDWA)

Alternative markets or treatments for excess manure

Nutrient loading reduction through trading

Ballast Water Treatment

On-board treatment or marine disposal technologies for various ships

Sediments that have collected in ballast tanks

Fate and transport in marine, estuary, and fresh water systems of any use of biocides (e.g. chlorine derivatives) to treat ballast water

Onsite/Decentralized Wastewater Treatment Systems

Effective State-level adoption of EPA management guidelines in reducing water pollution

Institutional, regulatory and funding barriers and solutions to implementation of decentralized options

Tools for conducting comprehensive, watershed-wide assessments of risks associated with decentralized wastewater systems

Management Systems for Water Pollution Control Programs Asset Management

Strategic best practice governance and business models of asset management

Methodologies and best practice applications and approaches for asset management

Tools and techniques for incorporating asset management into the day-to-day management of utilities

Municipal water efficiency and water demand management for infrastructure cost reduction or water pollution prevention

Environmental Management Systems for Water Pollution Control

Public Agency and Agriculture EMSs

Integrated utility-wide EMSs that also incorporate asset management, bench marking, and other management tools

Program Innovations

Program and management efficiencies and innovations in such areas as permit issuance, data collection/submission, program integration, water quality standards development, TMDLs, monitoring, inspections, and compliance

Innovative approaches to address operations and maintenance (O&M) issues for small communities, including tribes

Innovative approaches or methods to help communities and tribes build capacity to develop and manage water quality/wastewater programs

Innovative pretreatment tools or pilot projects for program development and implementation for disadvantaged communities, including the Mexican Border

Tools for environmental/public health improvements on the U.S./Mexican Border on a watershed basis

Wastewater Infrastructure Security

Innovative approaches or methods to reduce risk of terrorist or other attacks in: handling and storage of hazardous chemicals used at WWTPs; general WWTP site security at main and remote locations; wireless control systems (SCADA); sanitary or storm sewer collection systems

Early detection of chemical or biological agents which could contaminate or disrupt the WWTP

Ability of conventional or innovative WWTP processes to treat, remove or render harmless biological, chemical, or radiological agents which could be introduced into the collection or treatment system

Cooling Water Intake Structures (Clean Water Act, Section 316(b))

Reduction of impingement and entrainment of aquatic organisms into cooling water intakes

Ecological effects of cooling water intake structures on aquatic environments

Effectiveness of ecological restoration activities in reducing the impact of cooling water intake structures on the aquatic environment

EPA may also consider other project areas for funding to the extent authorized by CWA section 104(b)(3) and to the extent funds are available for such project areas.

Statutory Authority, Applicable Regulations, and Funding Level

Water Quality Cooperative Agreements are awarded under the authority of section 104(b)(3) of the Clean Water Act section 104(b)(3), (33 U.S.C. 1254(b)(3)).

The regulations governing the award and administration of Water Quality Cooperative Agreements are 40 CFR part 30 (for institutions of higher learning, hospitals, and other non-profit organizations) and 40 CFR part 31 and 40 CFR part 35, subparts A and B (for States, Tribes, local governments, intertribal consortia, and interstate agencies).

Intergovernmental Review

Applicants requested to submit a full application will be required to comply with Intergovernmental Review requirements (40 CFR part 29).

Total funding available for award by Headquarters will depend on EPA's appropriation for Fiscal Year 2003; however, it is estimated that $3.1 million will be available for funding approved projects. The average size of an award is anticipated to be approximately $100,000.

Should funding available for award remain reasonably stable or increase in future years, the Agency intends to reserve $200,000 per year of the annual amount available for Fiscal Year 2004 and 2005 to support projects and studies on cooling water intake structures. This is an addition to the $600,000 made available or planned for FY 2001 through FY 2003.

Construction projects, except for the construction required to carry out a demonstration project, and acquisition of land are not eligible for funding under this program. New or on-going programs to implement environmental controls are not eligible for funding under this program.

Request For Initial Proposal Format and Contents

IPs should be limited to three pages. Full application packages should not be submitted at this time. It is recommended that confidential information not be included in the IP. The following format should be used for all IPs:

Name of Project:

Point of contract: (Individual and Organization Name, Address, Phone Number, Fax Number, E-mail Address)

Is This a Continuation of a Previously Funded Project (if so, please provide the number and status of the current grant or cooperative agreement):

Proposed Award Amount:

Proposed Awardee Cost Share: (Cost sharing is not required).

Description of General Budget Proposed to Support Project:

Project Area: (based on areas of interest shown above).

Project Description: (Should not exceed two pages of single-spaced text).

Expected Accomplishments or Product, with Dates, and Interim Milestones: This section should also include a discussion of a communication plan for distributing the project results to interested parties.

Describe How the Project Meets the Evaluation Criteria Specified Below:

EPA IP Evaluation Criteria

EPA will award Water Quality Cooperative Agreements on a competitive basis and evaluate IPs based on the following criteria:

• The relationship of the proposed project to the priorities identified in this notice.

• How well the project proposes to address a nationally important need, issue, or interest.

• Communication plan to transfer results of the project to other potentially interested parties.

• How well the project furthers the goal of the Clean Water Act to prevent, reduce, and eliminate water pollution.

• Leverage of other resources (e.g., cost share, participation by other organizations) as part of the proposed approach.

• Cost effectiveness of the proposal.

• Compliance with directions for submittal contained in this notice.

The IPs will be evaluated by EPA staff on a scale of 1 to 5 with 1 being low and 5 being high. The criteria above will have essentially equal weight. EPA may consider EPs even if all criteria are not fully met, provided the projects meet the applicable statutory and regulatory requirements and funds are available for such projects.

IP Selection

Final selection of IPs will be made by the Director, Office of Wastewater Management. Selected organizations will be notified and requested to submit a full application. It is expected that unsuccessful applicants will be notified by e-mail.

Eligible Applicants

Eligible applicants for assistance agreements under section 104(b)(3) of the Clean Water Act are State water pollution control agencies. Tribal governments, intertribal consortia, interstate agencies, and other public or non-profit private agencies, institutions, and organizations.

Application Procedure

Electronic transmittal of IPs is preferred to facilitate the review process. Hard copies are acceptable. Please send three copies of the IPs if it is not electronically transmitted.

Dispute Resolution Process

Procedures at 40 CFR 30.63 and 40 CFR 31.70 apply.

Type of Assistance

It is expected that all the awards under this program will be cooperative agreements. States, interstate agencies, federally recognized tribes, and intertribal consortia meeting the requirements at 40 CFR 35.504 may include the funds for Water Quality Cooperative Agreements in a Performance Partnership Grant (PPG) in accordance with the regulations governing PPGs at 40 CFR part 35, subparts A and B. For states and interstate agencies that choose to do so, the regulations provide that the work plan commitments that would have been included in the WQCA must be included in the PPG work plan. A description of the Agency's substantial involvement in cooperative agreements will be included in the final agreement.

Schedule of Activities

This is the estimated schedule of activities for submission, review of proposals and notification of selections:

December 30, 2002—RFIPs due to EPA.

February 10, 2003—Initial approvals identified and sponsors of projects selected for funding will be requested to submit a formal application package. Schedule may be modified based on the level of response.

A list of selected projects will be posted on the Office of Wastewater Management Web site http://www.epa.gov/owm/FY2003WQCA. This Web site may also contain additional information about this request. Deadline extensions, if any, will be posted on this web site and not in the Federal Register.

Dated: October 18, 2002.
James A. Hanlon,
Director, Office of Wastewater Management.

[FR Doc. 02-27705 Filed 10-30-02; 8:45 am]

BILLING CODE 6560-50-M